DEPARTMENT OF THE INTERIOR

National Park Service

Personal Watercraft Use on Lake Powell, Draft Environmental Impact Statement, Glen Canyon National Recreation Area, Arizona and Utah

AGENCY: National Park Service, Department of the Interior.

ACTION: Notice of availability of the draft environmental impact statement for the personal watercraft use on Lake Powell, Glen Canyon National Recreation Area.

SUMMARY: Pursuant to § 102(2)(C) of the National Environmental Policy Act of 1969 (Pub L. 91-190, as amended), and the Council on Environmental Quality Regulations (40 CFR part 1500-1508), the National Park Service (NPS), Department of the Interior, has prepared a draft Environmental Impact Statement (DEIS) assessing the potential impacts of personal watercraft (PWC) use for Glen Canyon National Recreation Area. The DEIS describes and analyzes three alternatives to manage personal watercraft on Lake Powell to provide for the long-term protection of park resources while allowing a range of recreational opportunities to support visitor needs. Specifically, this environmental impact statement evaluates three alternatives for managing personal watercraft use on Lake Powell within Glen Canyon National Recreation Area. Each alternative identifies proposed actions related to visitor use zones and accessible developed areas, facilities and recreational services, visitor safety and conflicts, resource protection, and park operations.

This document is used to make reasoned decisions about whether to continue personal watercraft use at Glen Canyon NRA. NPS will make the determination based on the unit's enabling statute, mission, management objectives, resources, values, and other uses, as well as impacts from personal watercraft on the unit. Consistent with Bluewater Network v. Stanton, No. CV02093 (D.D.C. 2000) and the settlement agreement approved by the court on April 11, 2001, the environmental impact statement includes an evaluation of various personal watercraft use alternatives to determine their effects on water quality, air quality, soundscapes, wildlife, wildlife habitat, shoreline vegetation, visitor conflicts, safety, and other appropriate topics.

Public meetings were initiated in August 2001 to solicit early input into the scope and range of issues to be analyzed. A notice of intent announcing the decision to prepare the Environmental Impact Statement was published in the Federal Register on August 1, 2001. Scoping comments continued to be accepted and considered within the planning process.

During this comment period, the NPS facilitated several hundred discussions and briefings with congressional delegations, local elected officials, tribal representatives, public service organizations, educational institutions, and other interested members of the public. Over 3500 letters and e-mail messages concerning personal watercraft use on Lake Powell were received. The major issues raised during this period are summarized in Chapter 1, Purpose and Need for Action.

The DEIS includes two “action” alternatives and one “no action” (existing conditions) alternative. Under all the action alternatives, a Special Regulation would be promulgated to address the continued use of personal watercraft in the recreation area, in accordance with settlement agreement signed by the United States District Court for the District of Columbia on April 11, 2001. This agreement between the NPS and Bluewater Network requires all park units wishing to continue personal watercraft use to promulgate special regulations after an environmental analysis is conducted in accordance with the 1969 National Environmental Policy Act.

Alternative A, Continue PWC Use as Currently Managed under a Special Regulation, evaluates the impacts from the continuation of the present management direction, as established by the 1979 General Management Plan for Glen Canyon NRA. Under this alternative, personal watercraft use would continue as currently managed under a special regulation and would be authorized for all areas of the recreation area above Glen Canyon Dam, except where previously prohibited by the Superintendent's Compendium.

Alternative B, Promulgate a Special Regulation to Continue PWC Use with Additional Management Restrictions, the preferred alternative, would continue personal watercraft use in the recreation area under a special regulation with additional management restrictions. Personal watercraft use would be prohibited in portions of the Colorado, Escalante, Dirty Devil, and San Juan Rivers to increase protection of environmental values and reduce visitor conflict. To further reduce visitor conflict and improve visitor experience, speed restrictions would also be imposed in areas of the Escalante and Dirty Devil Rivers. Educational programs and materials would be enhanced to provide more information to visitors on watercraft use and safety as well as recreation area resources. Development of a monitoring program to evaluate the effects of personal watercraft on recreation area resources is emphasized. The preferred alternative also calls for the preparation of a Lake Management Plan to comprehensively consider all lake watercraft use.

Under Alternative C, No Action (Personal Watercraft Use Eliminated) the National Park Service would not take any rule-making action to authorize personal watercraft use in the recreation area. Personal watercraft use could continue until the settlement agreement deadline occurs, after which time their use would be discontinued.

DATES: The National Park Service will accept comments from the public on the Draft Environmental Impact Statement for 60 days from the date the Environmental Protection Agency posts its notice of filing in the Federal Register. The NPS will conduct public meetings to facilitate public review and comment on the DEIS. The meeting dates and times will be made available through press releases and on the Glen Canyon NRA Web site at http://www.nps.gov/glca/plan.htm. Or, you can get specific meeting locations, times, and dates by contacting Park Planning, Glen Canyon NRA, P.O. Box 1507, Page, Arizona, 86040, or by telephone at (928) 608-6200.

ADDRESSES: Information will be available for public review and comment at the Carl Hayden Visitor Center, Glen Canyon Dam, 1000 Hwy. 89, Page, Arizona, 86040, (928) 608-6404, in the office of the Superintendent, Park Headquarters, 691 Scenic View Drive, Page, Arizona, 86040, (928) 608-6200, and at the following Web site http://www.nps.gov/glca/plan.htm.

FOR FURTHER INFORMATION CONTACT: Brian Wright, Glen Canyon National Recreation Area, (928) 608-6339.

SUPPLEMENTARY INFORMATION: The DEIS is now available for public review. Interested persons and organizations wishing to express any concerns or provide relevant information are encouraged to send comments to Superintendent, Glen Canyon National Recreation Area, P.O. Box 1507, Page, Arizona 86040, or contact Park Planning via telephone at (928) 608-6200. The document may be obtained from the park (printed copy or CD copy) and is also available at area libraries. You may also comment via the Email to glca_pwc@nps.gov. Please submit Internet comments avoiding the use of special characters and any form of encryption. Please also include “Attn: Park Planning” and your name and return address in your Internet message. If you do not receive a confirmation from the system that we have received your Internet message, contact us directly at (928) 608-6200.

All written comments must be postmarked no later than 60 days from the date the Environmental Protection Agency posts its notice of filing in the Federal Register. The end date for the comment period is not known at this time. Once the end date is established, a notice will be sent to agencies and individuals on the mailing list.

If individuals submitting comments request that their name or/and address be withheld from public disclosure, it will be honored to the extent allowable by law. Such requests must be stated prominently in the beginning of the comments. There also may be circumstances wherein the NPS will withhold a respondent's identity as allowable by law. As always: NPS will make available to public inspection all submissions from organizations and business; and, anonymous comments may not be considered.

Following the formal DEIS review period, comments received will be considered in preparing the Final EIS (FEIS). The FEIS is anticipated to be complete in January 2003. Its availability will be similarly announced in the Federal Register. Subsequently, a Record of Decision may be approved by the Regional Director, Intermountain Region, no sooner than 30 days after the release of the FEIS. The official responsible for the final decision is the Regional Director, Intermountain Region; subsequently the official who will be responsible for implementation will be the Superintendent, Glen Canyon National Recreation Area.

Dated: August 2, 2002.
Karen Wade,
Director, Intermountain Region, National Park Service.

[FR Doc. 02-23371 Filed 9-12-02; 8:45 am]

BILLING CODE 4310-70-P